DEPARTMENT OF ENERGY

Federal Energy Regulatory Commission

Notice of Staff Attendance at the Reliability and Security Technical Committee Meetings

The Federal Energy Regulatory Commission hereby gives notice that members of the Commission and/or Commission staff may attend the following meetings either in person or virtually:

The Reliability and Security Technical Committee (RSTC) Meetings:

MRO 380 St. Peter Street, Suite 800, St. Paul, MN 55102

June 21, 2023 (8:30 a.m.-4:30 p.m. Central)

June 22, 2023 (8:30 a.m.-10:30 a.m. Central)

Further information regarding these meetings may be found at: https://www.nerc.com/Pages/Calendar.aspx.

The discussions at the meetings, which are open to the public, may address matters at issue in the following Commission proceeding:

Docket Nos. RD23-1-000, RD23-1-001 Extreme Cold Weather Reliability Standards EOP-011-3 and EOP-012-1; RD22-4-000, RD22-4-001 Registration of Inverter-Based Resources

For further information, please contact Chanel Chasanov, 202-502-8569, or chanel.chasanov@ferc.gov.

Dated: June 14, 2023.
Debbie-Anne A. Reese,
Deputy Secretary.

[FR Doc. 2023-13169 Filed 6-20-23; 8:45 am]

BILLING CODE 6717-01-P